DEPARTMENT OF HEALTH AND HUMAN SERVICES

National Institutes of Health

Proposed Collection; Comment Request; Request for Generic Clearance to Conduct Voluntary Customer/Partner Surveys

SUMMARY: In compliance with the requirement of Section 3506(c)(2)(A) of the Paperwork Reduction Act of 1995 to provide opportunity for public comment on proposed data collection projects, the National Library of Medicine (NLM), the National Institutes of Health (NIH) will publish periodic summaries of proposed projects to be submitted to the Office of Management and Budget (OMB) for review and approval.

Proposed Collection

Title: Voluntary Customer Satisfaction Surveys.

Type of Information Collection Request: Extension. OMB Control No. 0925-0476, with an expiration date of March 31, 2003.

Need and Use of Information Collection: Executive Order 12962 directed agencies that provide significant services directly to the public to survey customers to determine the kind and quality of services they want and their level of satisfaction with existing services. Additionally, since 1994, the NLM has been a “Federal Reinvention Laboratory “ with a goal of improving its methods of delivering information to the public. An essential strategy in accomplishing reinvention goals is the ability to periodically receive input and feedback from customers about the design and quality of the services they receive.

The NLM provides significant services directly to the public including health providers, researchers, universities, other federal agencies, state and local governments, and to others through a range of mechanisms, including publications, technical assistance, and Web sites. These services are primarily focused on health and medical information dissemination activities. The purpose of this submission is to obtain OMB's generic approval to continue to conduct satisfaction surveys of NLM's customers. The NLM will use the information provided by individuals and institutions to identify strengths and weaknesses in current services and to make improvements where feasible. The ability to periodically survey NLM's customers is essential to continually update and upgrade methods of providing high quality service.

Frequency of Response: Annually or biennially.

Affected Public: Individuals or households; businesses or other for profit; state or local governments; Federal agencies; non-profit institutions; small businesses or organizations.

Type of Respondents: Organizations, medical researchers, physicians and other health care providers, librarians, students, and the general public. Annual reporting burden is as follows:

Title of survey | Type of survey | Number of respondents | Estimated response time | Burden hours
Evaluation of Clinical Studies Database | Web-based | 1,000 | .167 | 167
Visible Human Project—Image Processing Tools | Electronic Mail | 1,000 | .25 | 250
PubMed | Web-based | 5,000 | .0835 | 418
Entrez | Web-based | 2,000 | .0835 | 167
GeneMap | Web-based | 2,000 | .0835 | 167
NCBI Web Site | Web-based | 2,000 | .0835 | 167
NLM Service Desk Survey | Interactive Voice Response telephone | 400 | .0835 | 33
NLM Onsite Reading Room Use | Exit Interview | 500 | .167 | 84
NLM Electronic Mail Customer Survey | Electronic Mail | 1,000 | .0835 | 84
MEDLINEplus User Survey | Web-based | 500 | .0835 | 59
Survey of Unified Medical Language System (UMLS) Use | Mail Survey | 1,000 | .5 | 500
NLM Services Satisfaction Survey | Web-based | 2,000 | .0835 | 167
Total |  | 18,400 |  | 2,263

There are no capital costs to report. There are no operating or maintenance costs to report.

Request for Comments

Written comments and/or suggestions from the public and affected agencies are invited on one or more of the following points: (1) Whether the proposed collection of information is necessary for the proper performance of the function of the agency, including whether the information will have practical utility; (2) The accuracy of the agency's estimate of the burden of the proposed collection of information; (3) Ways to enhance the quality, utility, and clarity of the information to be collected; and (4) Ways to minimize the burden of the collection of information on those who are to respond, including the use of appropriate automated, electronic, mechanical, or other technological collection techniques or other forms of information technology.

FOR FURTHER INFORMATION CONTACT: To request additional information on the proposed collection of information contact Ronald F. Stewart, National Library of Medicine, Building 38, Room 2N13, 8600 Rockville Pike, Bethesda, MD 20894, or call 301-496-6491 (not a toll-free number). You also may e-mail your request to: ron_stewart@mail.nlm.nih.gov.

Comments Due Date

Comments regarding this information collection are best assured of having their full effect if received within 60 days of the date of this publication.

Dated: December 2, 2002.
Jon G. Retzlaff
Executive Officer, National Library of Medicine.

[FR Doc. 02-30865 Filed 12-5-02; 8:45 am]

BILLING CODE 4140-01-P